DEPARTMENT OF COMMERCE

Office of the Secretary

[Docket No.: 021025254-2254-01]

Privacy Act of 1974; System of Records

AGENCY: Office of Administration, Office of the Secretary, Department of Commerce.

ACTION: Notice and request for comments.

SUMMARY: In accordance with the Privacy Act (5 U.S.C. 552a(e)(4) and (11), the Department of Commerce is issuing notice of our intent to delete the system of records entitled COMMERCE/ITA-5, “National Defense Executive Reserve Personnel Folders.” This system of records is no longer collected or maintained by the Bureau of Industry and Security, formerly the Bureau of Export Administration. The Bureau of Export Administration separated from ITA in 1987 and maintained this system of records. On May 15, 1997, the National Defense Executive Reserve (NDER) program was dissolved by then Under Secretary William Reinsch in a letter sent to 313 NDER members. As a result, there was no longer a need to maintain NDER personnel files, and they were all disposed.

DATES: Effective Date: The deletion will become effective as proposed without further notice on December 5, 2002.

Comment Date: To be considered, written comments must be submitted on or before December 5, 2002.

ADDRESSES: Comments may be mailed to Dawnielle Battle, FOIA Officer, U.S. Department of Commerce, Bureau of Industry and Security, HCHB 6883, Washington, DC 20230.

SUPPLEMENTARY INFORMATION: This Privacy Act System of Records is being deleted because the records are no longer collected or maintained by the Bureau of Industry and Security.

Dated: October 31, 2002.
Brenda Dolan,
Department of Commerce, Freedom of Information/Privacy Act Officer.

[FR Doc. 02-28075 Filed 11-4-02; 8:45 am]

BILLING CODE 3510-JT-P